DEPARTMENT OF THE INTERIOR

Office of the Secretary

[15XD4523WK DWK000000.000000 DS64900000 DQ.64920.15COPER]

Proposed Renewal of Information Collection: 1090-0008, E-Government Web Site Customer Satisfaction Surveys (Formerly American Customer Satisfaction Index (ACSI) E-Government Web Site Customer Satisfaction Surveys)

AGENCY: Office of Strategic Employee and Organization Development, Federal Consulting Group, Department of the Interior.

ACTION: Notice and request for comments.

SUMMARY: In compliance with section 3506(c)(2)(A) of the Paperwork Reduction Act of 1995, the Federal Consulting Group within the Department of the Interior announces that it has submitted a request for a proposed extension of information collection for the E-Government Web site Customer Satisfaction Surveys to the Office of Management and Budget, and requests public comments on this submission. The information collection request describes the nature of the information collection and the expected burden and cost.

DATES: Office of Management and Budget has up to 60 days to approve or disapprove the information collection request, but may respond after 30 days; therefore, public comments should be submitted to Office of Management and Budget by April 17, 2015, in order to be assured of consideration.

ADDRESSES: Send your written comments by facsimile to (202) 395-5806 or email (OIRA_Submission@omb.eop.gov) to the Office of Information and Regulatory Affairs, Office of Management and Budget, Attention: Desk Office for the Department of the Interior (1090-0008). Also, please send a copy of your comments to Federal Consulting Group, Attention: Richard Tate, 1849 C St. NW., MS 2256, Washington, DC 20240-0001, or by facsimile to (202) 513-7686, or via email to Richard_Tate@ios.doi.gov. Individuals providing comments should reference E-Government Web site Customer Satisfaction Surveys (OMB ID: 1090-0008).

FOR FURTHER INFORMATION CONTACT: To request additional information or copies of the form(s) and instructions, please write to the Federal Consulting Group (see contact information provided in the ADDRESSES section above). You may also review the information collection request online at http://www.reginfo.gov/public/do/PRAMain.

SUPPLEMENTARY INFORMATION:

I. Abstract

The Office of Management and Budget regulation at 5 CFR part 1320, which implements the provisions of the Paperwork Reduction Act of 1995 (Pub. L. 104-13), require that interested members of the public and affected agencies have an opportunity to comment on information collection and recordkeeping activities [see 5 CFR 1320.8(d)]. The Office of Strategic Employee and Organization Development, Federal Consulting Group has submitted a request to Office of Management and Budget to renew its approval of this collection of information for three years.

This information collection activity provides a means to consistently assess, benchmark, and improve customer satisfaction with Federal Government agency Web sites within the Executive Branch. The Federal Consulting Group of the Department of the Interior serves as the executive agent for this methodology and has partnered with ForeSee to offer this assessment to federal agencies.

ForeSee is a leader in customer satisfaction and customer experience management on the Web and related media. Its methodology (Customer Experience Analytics or CXA) is a derivative of one of the most respected, credible, and well known measures of customer satisfaction in the country, the American Customer Satisfaction Index (ACSI). The ForeSee CXA methodology combines survey data and a patented econometric model to precisely measure the customer satisfaction of Web site users, identify specific areas for improvement, and determine the impact of those improvements on customer satisfaction and future customer behaviors.

The ForeSee CXA is the only cross-agency methodology for obtaining comparable measures of customer satisfaction with Federal Government Web sites. The ultimate purpose of ForeSee CXA is to help improve the quality of goods and services available to American citizens, including those from the Federal government.

The E-Government Web site Customer Satisfaction Surveys will be completed subject to the Privacy Act of 1974, Public Law 93-579, December 31, 1974 (5 U.S.C. 522a). The agency information collection will be used solely for the purpose of the survey. The contractor will not be authorized to release any agency information upon completion of the survey without first obtaining permission from the Federal Consulting Group and the participating agency. In no case shall any new system of records containing privacy information be developed by the Federal Consulting Group, participating agencies, or the contractor collecting the data. In addition, participating Federal agencies may only provide information used to randomly selected respondents from among established systems of records provided for such routine uses.

There is no other agency or organization able to provide the information accessible through the surveying approach used in this information collection. Further, the information will enable Federal agencies to determine customer satisfaction metrics with discrimination capability across variables. Thus, this information collection will assist Federal agencies in making the best use of resources in a targeted manner to improve service to the public.

This survey asks no questions of a sensitive nature, such as sexual behavior and attitudes, religious beliefs, or other matters that are commonly considered private.

An agency may not conduct or sponsor, and a person is not required to respond to, a collection of information unless it is operating under a currently valid Office of Management and Budget control number. The Office of Management and Budget control number for this collection is 1090-0008. The control number will be displayed on the surveys used. For expeditious administration of the surveys, the expiration date will not be displayed on the individual instruments. Response to the surveys is voluntary.

II. Data

(1) Title: American Customer Satisfaction Index (ACSI) E-Government Web Site Customer Satisfaction Surveys.

OMB Control Number: 1090-0008.

Current Expiration Date: March 31, 2015.

Frequency of Collection: Once per survey.

Description of Respondents: Individuals, Business, and State, Local, or Tribal Governments who have visited Federal Government Web sites.

Type of Review: Renewal.

(2) Annual Reporting and Record Keeping Burden.

Total Annual Burden Hours: 52,083.

Estimated Number of Respondents: Participation by Federal agencies will vary as new Web sites are added or deleted. However, based on our experience from the previous three-year approval period, the number of surveys has been very consistent with little change and estimate for the next three years are as follows:

Average Expected Annual Number of Customer Satisfaction Surveys: 250.

Respondents: 5,000 per survey.

Annual Responses: 1,250,000.

Frequency of Response: Once per survey.

Average Minutes per Response: 2.5.

Burden Hours: 52,083 hours.

(3) Description of the Need and Use of the Information: The proposed renewal of this information collection activity provides a means to consistently assess, benchmark and improve customer satisfaction with Federal government agency Web sites within the Executive Branch.

(4) As required under 5 CFR 1320.8(d), a Federal Register notice soliciting comments on the collection of information was published on November 18, 2014 (79 FR 68688-89). No comments were received. This notice provides the public with an additional 30 days in which to comment on the proposed information collection activity.

Request for Comments: Comments submitted in response to this notice will be summarized and/or included in the request for Office of Management and Budget approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection by appointment with the Federal Consulting Group at the contact information given in the ADDRESSES section. The comments, with names and addresses, will be available for public view during regular business hours. If you wish us to withhold your personal information, you must prominently state at the beginning of your comment what personal information you want us to withhold. We will honor your request to the extent allowable by law.

An agency may not conduct or sponsor, and a person is not required to respond to, a collection of information unless it displays a currently valid Office of Management and Budget control number.

Dated: March 12, 2015.
Jessica Reed,
Director, Federal Consulting Group.

[FR Doc. 2015-06240 Filed 3-17-15; 8:45 am]

BILLING CODE 4334-12-P